DEPARTMENT OF COMMERCE

Advisory Committee on Excellence in Space (ACES); Notice of Cancellation

AGENCY: Office of Space Commerce (OSC), National Oceanic and Atmospheric Administration (NOAA), Department of Commerce (DOC).

ACTION: Notice of Meeting; Cancellation.

SUMMARY: The National Oceanic and Atmospheric Administration published a notice in the Federal Register concerning a public meeting of the Advisory Committee on Excellence in Space. The notice is in the Federal Register of January 29, 2025, in FR Doc. 2025-01885, on page 8387. The meeting scheduled for Wednesday, March 5, 2025, from 9 a.m. to 5 p.m. (ET) is cancelled.

FOR FURTHER INFORMATION CONTACT: Jason Y. Kim, Designated Federal Officer, Advisory Committee on Excellence in Space (ACES), NOAA Office of Space Commerce, U.S. Department of Commerce, Washington, DC 20230. Telephone: 202-482-5827. Email: space.commerce@noaa.gov.

Dated: February 28, 2025.
Janice Starzyk,
Acting Director of the Office of Space Commerce.

[FR Doc. 2025-03566 Filed 3-4-25; 8:45 am]

BILLING CODE 3510-12-P